DEPARTMENT OF ENERGY

Federal Energy Regulatory Commission

Notice of Application Tendered for Filing With the Commission, and Soliciting Additional Study Requests, and Establishing Procedural Schedule for Licensing and a Deadline for Submission of Final Amendments

October 20, 2003.

Take notice that the following hydroelectric application has been filed with the Commission and is available for public inspection.

a. Type of Application: Minor license (subsequent).

b. Project No.: 620-009.

c. Date filed: October 3, 2003.

d. Applicant: NorQuest Seafoods, Inc.

e. Name of Project: Chignik Hydroelectric Project.

f. Location: The project is located along Indian Creek, in Lake and Peninsula Borough counties, near the town of Chignik, Alaska. The project occupies 58 acres of Federal land managed by the Bureau of Land Management.

g. Filed Pursuant to: Federal Power Act 16 U.S.C. 791(a)-825(r).

h. Applicant Contacts: Ron Soule, NorQuest Seafoods, Inc., 5245 Shilshole Avenue NW., Seattle, Washington, 98107-4833, (206) 281-7022. Daniel Hertrich, Polarconsult Alaska, Inc., 1503 W 33rd Avenue # 310, Anchorage, Alaska, 99503, (907) 258-2420.

i. FERC Contact: John Mudre, (202) 502-8902 or john.mudre@ferc.gov.

j. Cooperating agencies: We are asking Federal, State, local, and tribal agencies with jurisdiction and/or special expertise with respect to environmental issues to cooperate with us in the preparation of the environmental document. Agencies who would like to request cooperating status should follow the instructions for filing comments described in item k below.

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than December 3, 2003, and serve a copy of the request on the applicant.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “eFiling” link.

l. This application is not ready for environmental analysis at this time.

m. The existing project consists of a 16.5-foot-high timber dam at the outlet of Upper Lake (a.k.a. Indian Lake), creating a reservoir with a surface area of approximately 20.4 acres at the maximum reservoir elevation of 431 feet (local datum), a channel spillway, a 7,700-foot-long, 8-inch-diameter wood-stave and steel pipeline, a 60-kilowatt generating unit inside the applicant's fish cannery, the generator leads, and appurtenant facilities. No new facilities or changes in operation are proposed.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

o. With this notice, we are initiating consultation with the Alaska State Historic Preservation Officer (SHPO), as required by section 106, National Historic Preservation Act, and the regulations of the Advisory Council on Historic Preservation, 36, CFR 800.4.

p. Procedural schedule and final amendments: The application will be processed according to the following Hydro Licensing Schedule. Revisions to the schedule will be made as appropriate.

Scoping: October 2003.

Issue Acceptance or Deficiency Letter: November 2003.

Notice that application is ready for environmental analysis: April 2004.

Notice of the availability of the EA: November 2004.

Ready for Commission decision on the application: January 2005.

Final amendments to the application must be filed with the Commission no later than 30 days from the issuance date of the notice of ready for environmental analysis.

Linda Mitry,
Acting Secretary.

[FR Doc. E3-00279 Filed 11-14-03; 8:45 am]

BILLING CODE 6717-01-P